DEPARTMENT OF THE INTERIOR

National Park Service

[2253-665]

Notice of Intent To Repatriate Cultural Items: Arizona State Museum, University of Arizona, Tucson, AZ

AGENCY: National Park Service, Interior.

ACTION: Notice.

SUMMARY: The Arizona State Museum, University of Arizona, in consultation with the appropriate Indian tribes, has determined that the cultural items meet the definition of unassociated funerary objects and repatriation to the Indian tribes stated below may occur if no additional claimants come forward. Representatives of any Indian tribe that believes itself to be culturally affiliated with the cultural items may contact the Arizona State Museum, University of Arizona.

DATES: Representatives of any Indian tribe that believes it has a cultural affiliation with the cultural items should contact the Arizona State Museum, University of Arizona at the address below by May 31, 2012.

ADDRESSES: John McClelland, NAGPRA Coordinator, Arizona State Museum, University of Arizona, P.O. Box 210026, Tucson, AZ 85721, telephone (520) 626-2950.

SUPPLEMENTARY INFORMATION: Notice is here given in accordance with the Native American Graves Protection and Repatriation Act (NAGPRA), 25 U.S.C. 3005, of the intent to repatriate cultural items in the possession of the Arizona State Museum, University of Arizona, Tucson, AZ, that meets the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1930, cultural items were removed from Queen Creek Ruin, also known as Sonoqui Pueblo, Pozos de Sonoqui, or Sun Temple Ruin (AZ U:14:48(ASM)/SACATON:2:6(GP)), in Maricopa County, AZ, during legally authorized excavations conducted by the Gila Pueblo Foundation. The items were reportedly found in association with human burials, but the human remains are not present in the collections. In December 1950, the Gila Pueblo Foundation closed and the collections were donated to the Arizona State Museum. The 30 unassociated funerary objects are 12 ceramic bowls, 8 ceramic jars, 1 ceramic ladle, 3 ceramic pitchers, 5 ceramic scoops, and 1 ceramic sherd.

Queen Creek Ruin was a large habitation site that included trash mounds, burials, pithouses, canals, adobe compounds, and a ballcourt. Architectural features, the mortuary program, ceramic types, and other items of material culture are consistent with the Hohokam archeological tradition and indicate occupation between approximately A.D. 950 and 1450.

In 1927-1928, a cultural item was removed from the Adamsville site (AZ U:15:1(ASM)/FLORENCE:7:6(GP)), in Pinal County, AZ, during legally authorized excavations conducted by the Gila Pueblo Foundation. The item was reportedly found in association with a human burial, but information to associate the object with a specific burial has not been found. In December 1950, the Gila Pueblo Foundation closed and the collections were donated to the Arizona State Museum. The one unassociated funerary object is a ceramic jar.

The Adamsville site was a large village that included a platform mound, adobe structures, and ballcourts. Architectural features, the mortuary program, ceramic types, and other items of material culture are consistent with the Hohokam archeological tradition and indicate occupation between approximately A.D. 900 and 1450.

In 1973, cultural items were removed from Escalante Ruin (AZ U:15:3(ASM)), in Pinal County, AZ, during legally authorized excavations conducted by the Arizona State Museum under the direction of David Doyel. All collections from this project were accessioned into Arizona State Museum collections in 1976. The items were associated with a human burial, but the human remains are not present in the collections. The two unassociated funerary objects are a stone axe and a quartz polishing stone.

Escalante Ruin was the central habitation site of the Escalante Group Complex. It contained a large platform mound, a compound, and a room block attached to the mound. Architectural features, the mortuary program, ceramic types, and other items of material culture are consistent with the Hohokam archeological tradition and indicate occupation between approximately A.D. 1150 and 1450.

Continuities of mortuary practices, ethnographic materials, and technology indicate affiliation of Hohokam settlements with present-day O'odham (Piman) and Puebloan cultures. Documentation submitted by representatives of the Gila River Indian Community of the Gila River Indian Reservation, Arizona, on April 13, 2011, addresses continuities between the Hohokam and the O'odham tribes. Furthermore, oral traditions that are documented for the Ak Chin Indian Community of the Maricopa (Ak Chin) Indian Reservation, Arizona; Gila River Indian Community of the Gila River Indian Reservation, Arizona; Hopi Tribe of Arizona; Salt River Pima-Maricopa Indian Community of the Salt River Reservation, Arizona; and the Tohono O'odham Nation of Arizona support affiliation with Hohokam sites in central Arizona.

Determinations Made by the Arizona State Museum, University of Arizona

Officials of the Arizona State Museum, University of Arizona have determined that:

• Pursuant to 25 U.S.C. 3001(3)(B), the 33 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; and the Tohono O'odham Nation of Arizona.

Additional Requestors and Disposition

Representatives of any other Indian tribe that believes itself to be culturally affiliated with the unassociated funerary objects should contact John McClelland, NAGPRA Coordinator, Arizona State Museum, University of Arizona, P.O. Box 210026, Tucson, AZ 85721, telephone (520) 626-2950 before May 31, 2012. Repatriation of the unassociated funerary objects to the Ak Chin Indian Community of the Maricopa (Ak Chin) Indian Reservation, Arizona; Gila River Indian Community of the Gila River Indian Reservation, Arizona; Hopi Tribe of Arizona; Salt River Pima-Maricopa Indian Community of the Salt River Reservation, Arizona; and the Tohono O'odham Nation of Arizona may proceed after that date if no additional claimants come forward.

The Arizona State Museum is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; and the Tohono O'odham Nation of Arizona that this notice has been published.

Dated: April 26, 2012.
David Tarler,
Acting Manager, National NAGPRA Program.

[FR Doc. 2012-10501 Filed 4-30-12; 8:45 am]

BILLING CODE 4312-50-P